DEPARTMENT OF ENERGY

Federal Energy Regulatory Commission

Combined Notice of Filings #1

Take notice that the Commission received the following Complaints and Compliance filings in EL Dockets:

Docket Numbers: EL24-100-000;QF24-465-001.

Applicants: State of Montana, Department of Natural Resources and Conservation, State of Montana, Department of Natural Resources and Conservation.

Description: Petition for Declaratory Order of State of Montana, Department of Natural Resources and Conservation.

Filed Date: 4/5/24.

Accession Number: 20240405-5273.

Comment Date: 5 p.m. ET 5/6/24.

Take notice that the Commission received the following electric rate filings:

Docket Numbers: ER24-1726-000.

Applicants: El Rio Sol Transmission, LLC.

Description: Application to Sell Transmission Service Rights at Negotiated Rates by El Rio Sol Transmission, LLC.

Filed Date: 4/4/24.

Accession Number: 20240404-5184.

Comment Date: 5 p.m. ET 4/25/24.

Docket Numbers: ER24-1727-000.

Applicants: PacifiCorp.

Description: 205(d) Rate Filing: Surplus Large Gen Interconnect Agrmt (Escalante I—SA No. 1106) to be effective 4/12/2024.

Filed Date: 4/11/24.

Accession Number: 20240411-5025.

Comment Date: 5 p.m. ET 5/2/24.

Docket Numbers: ER24-1728-000.

Applicants: PacifiCorp.

Description: 205(d) Rate Filing: Surplus Large Gen Interconnection Agrmt (Escalante II—SA No. 1107) to be effective 4/12/2024.

Filed Date: 4/11/24.

Accession Number: 20240411-5026.

Comment Date: 5 p.m. ET 5/2/24.

Docket Numbers: ER24-1729-000.

Applicants: Upper Missouri G. & T. Electric Cooperative, Inc.

Description: 205(d) Rate Filing: UMPC Formula Rate Change Filing to be effective 6/1/2024.

Filed Date: 4/11/24.

Accession Number: 20240411-5032.

Comment Date: 5 p.m. ET 5/2/24.

Docket Numbers: ER24-1730-000.

Applicants: Midcontinent Independent System Operator, Inc., Ameren Services Company.

Description: 205(d) Rate Filing: Midcontinent Independent System Operator, Inc. submits tariff filing per 35.13(a)(2)(iii: 2024-04-11_SA 4274 ATXI-UEC-MEC TIA to be effective 4/12/2024.

Filed Date: 4/11/24.

Accession Number: 20240411-5121.

Comment Date: 5 p.m. ET 5/2/24.

Docket Numbers: ER24-1731-000.

Applicants: Duke Energy Carolinas, LLC, Duke Energy Florida, LLC.

Description: 205(d) Rate Filing: Duke Energy Carolinas, LLC submits tariff filing per 35.13(a)(2)(iii: DEF- Annual Update of Real Power Loss Factors to be effective 5/1/2024.

Filed Date: 4/11/24.

Accession Number: 20240411-5126.

Comment Date: 5 p.m. ET 5/2/24.

Take notice that the Commission received the following electric securities filings:

Docket Numbers: ES24-30-000.

Applicants: Xcel Energy Southwest Transmission Company, LLC.

Description: Application Under Section 204 of the Federal Power Act for Authorization to Issue Securities of Xcel Energy Southwest Transmission Company, LLC.

Filed Date: 4/11/24.

Accession Number: 20240411-5127.

Comment Date: 5 p.m. ET 5/2/24.

Docket Numbers: ES24-31-000.

Applicants: Xcel Energy Transmission Development Company, LLC.

Description: Application Under Section 204 of the Federal Power Act for Authorization to Issue Securities of Xcel Energy Transmission Development Company, LLC.

Filed Date: 4/11/24.

Accession Number: 20240411-5129.

Comment Date: 5 p.m. ET 5/2/24.

Take notice that the Commission received the following qualifying facility filings:

Docket Numbers: QF24-472-000.

Applicants: The Durst Organization.

Description: Form 556 of The Durst Organization.

Filed Date: 4/10/24.

Accession Number: 20240410-5180.

Comment Date: 5 p.m. ET 5/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 11, 2024.
Debbie-Anne A. Reese,
Acting Secretary.

[FR Doc. 2024-08207 Filed 4-16-24; 8:45 am]

BILLING CODE 6717-01-P